SMALL BUSINESS ADMINISTRATION

Region 3—Washington, DC District Advisory Council; Public Meeting

The U.S. Small Business Administration Washington, DC District Advisory Council will host a public a meeting on Tuesday October 17, 2006 from 9 a.m. until 11:30 a.m. The meeting will take place at the Washington Metropolitan Area District Office located at 740 15th Street, NW., 3rd Floor, Washington, DC 20005. The purpose of the meeting is to discuss the overview of the district's FY 2006 goals, update on new initiatives, and other matters that be presented by members, staff of the U.S Small Business Administration, or others present.

Anyone wishing to make an oral presentation to the Board must contact Joseph P. Loddo,District Director, Washington Metropolitan Area District Advisory Council, in writing by letter or fax no later than Tuesday, October 3, 2006, in order to be put on the agenda. Joseph P. Loddo, District Director, U.S. Small Business Administration, Washington Metropolitan Area District Office, 740 15th Street, NW., 3rd Floor, Washington, DC 20005. Telephone (202) 272-0345 or FAX (202) 272-0270.

Thomas M. Dryer,
Acting Committee Management Officer.

[FR Doc. 06-7989 Filed 9-21-06; 8:45 am]

BILLING CODE 8025-01-P